DEPARTMENT OF AGRICULTURE

Grain Inspection, Packers and Stockyards Administration

Proposed Posting, Posting, and Deposting of Stockyards

AGENCY: Grain Inspection, Packers and Stockyards Administration, USDA.

ACTION: Notice and request for comments.

SUMMARY: The Grain Inspection, Packers and Stockyards Administration (GIPSA) is taking several actions to post and depost stockyards under the Packers and Stockyards Act (P&S Act). Specifically, we are proposing that 23 stockyards now operating subject to the P&S Act be posted. We are posting 12 stockyards that were identified previously as operating subject to the Act. Eleven other facilities, however, were not posted because they were found to be abandoned or no longer functioning as a stockyard and no longer operating subject to the P&S Act. Finally, we are deposting 19 stockyards that can no longer be used as stockyards.

DATES: For the proposed posting of stockyards, we will consider comments that we receive by May 5, 2009.

For the deposted stockyards, the deposting is effective on April 20, 2009.

ADDRESSES: We invite you to submit comments on this notice. You may submit comments by any of the following methods:

• E-Mail: comments.gipsa@usda.gov.

• Mail: H. Tess Butler, GIPSA, USDA, 1400 Independence Avenue, SW., Room 1654-S, Washington, DC 20250-3604.

• Fax: (202) 690-2755.

• Hand Delivery or Courier: H. Tess Butler, GIPSA, USDA, 1400 Independence Avenue, SW., Room 1654-S, Washington, DC 20250-3604.

• Internet: Go to http://www.regulations.gov. Follow the on-line instructions for submitting comments.

SUPPLEMENTARY INFORMATION: The Grain Inspection, Packers and Stockyards Administration (GIPSA) administers and enforces the P&S Act of 1921 (7 U.S.C. 181 et seq.). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows: “* * * any place, establishment, or facility commonly known as stockyards, conducted, operated, or managed for profit or nonprofit as a public market for livestock producers, feeders, market agencies, and buyers, consisting of pens, or other enclosures, and their appurtenances, in which live cattle, sheep, swine, horses, mules, or goats are received, held, or kept for sale or shipment in commerce.”

Section 302(b) of the P&S Act requires the Secretary of Agriculture to determine which stockyards meet this definition, and to notify the owner of the stockyard and the public of that determination by posting a notice in each designated stockyard. Once the Secretary provides notice to the stockyard owner and the public, the stockyard is subject to the provisions of Title III of the P&S Act (7 U.S.C. 201-203 and 205-217a) until the Secretary deposts the stockyard by public notice. To post a stockyard, we assign the stockyard a facility number, notify the stockyard owner, and send an official posting notice to the stockyard owner to display in a public area of the stockyard. This process is referred to as “posting.” The date of posting is the date that the posting notices are physically displayed at the stockyard. A facility that does not meet the definition of a stockyard is not subject to the Act, and therefore cannot be posted. A posted stockyard can be deposted, which occurs when the facility is no longer used as a stockyard.

We are hereby notifying stockyard owners and the public that the following 23 stockyards meet the definition of a stockyard, and that we propose to designate these stockyards as posted stockyards.

Proposed facility no. | Stockyard name and location
AL-197 | Screamer 5L Auction, Abberville, Alabama.
AR-182 | R. Tucker, LLC, dba Madison County Livestock Auction, Inc., Huntsville, Arkansas.
KS-209 | Lyon County Livestock Sales & Services, LLC, dba Admire Livestock Auction, Admire, Kansas.
KY-182 | Cattlemen's Livestock Market, LLC, Rockfield, Kentucky.
KY-183 | Mill's 31-E Auction Center, Scottsville, Kentucky.
KY-184 | Blue Grass South Livestock Market, LLC, Stanford, Kentucky.
MI-151 | Tom Moore Sales, Onsted, Michigan.
MI-152 | United Producers, Inc., St. Louis, Michigan.
MI-153 | United Producers, Inc., Manchester, Michigan.
MI-154 | United Producers, Inc., Cass City, Michigan.
NC-178 | Taylorsville Lions Club Alexander County Fair, Taylorsville, North Carolina.
NC-179 | Edward Johnson Auctioneers, Inc., dba Johnson's Cattle Auction, Canton, North Carolina.
NM-124 | Cow House Auction, Kirtland, New Mexico.
OH-153 | Larue Horse Sale, LLC, LaRue, Ohio.
OK-215 | Old Goat Enterprises, LLC, dba Countryside Auction, Chandler, Oklahoma.
TN-200 | Longhorn Auction Company and Livestock Sales, Mountain City, Tennessee.
TN-201 | James Linville, dba Scotts Hill Stockyard, Scotts Hill, Tennessee.
TN-202 | Tennessee Livestock Producers, Inc., Columbia, Tennessee.
TX-351 | Great Western Auctions, LLC, Magnolia, Texas.
TX-352 | Texas Cattle Exchange, Inc., Eastland, Texas.
TX-353 | Elkhart Horse Center, Elkhart, Texas.
TX-354 | Marion County Stockyards, Jefferson, Texas.
VA-164 | Victoria Livestock Market, Victoria, Virginia.

We are also notifying the public that the stockyards listed in the following table meet the P&S Act's definition of a stockyard and that we have posted the stockyards. On March 26, 2008, we published a notice in the Federal Register (70 FR 15969-15970) of our proposal to post these 12 stockyards. Since we received no comments to our proposal, we have now assigned the stockyards a facility number, notified the owner of the stockyard facilities, and sent notices to the owner of the stockyard to be displayed in public areas of the stockyard. The table below reflects the date of posting for each stockyard.

Facility No. | Stockyard name and location | Date of posting
AL-196 | Clay County Goat & Poultry Auction, Goodwater, Alabama | July 11, 2008.
AR-172 | G.P. Rivers, dba Rivers Horse Center, Lewisville, Arkansas | July 21, 2008.
AR-180 | King Livestock Goat and Sheep Auction, North Lonoke, Arkansas | July 16, 2008.
CO-156 | Western Slope Cattlemen's Livestock Auction, LLC, Loma, Colorado | July 11, 2008.
GA-231 | Thomas County Stockyards, Inc., Thomasville, Georgia | July 7, 2008.
MS-176 | Cuevas Auction, Picayune, Mississippi | July 10, 2008.
NY-176 | Howard W. Visscher, Hilltop Dairy Auction, Savannah, New York | July 16, 2008.
SC-162 | Claxton's Auction Co., LLC, Ruffin, South Carolina | July 16, 2008.
TN-197 | Jimmy Brown, dba JB Livestock Auction, Gleason, Tennessee | July 16, 2008.
TN-198 | Wallace P. Mitchell, dba Mitchell's Trade Center & Auctions, Inc., Castalian Springs, Tennessee | July 21, 2008.
TX-350 | Hereford Livestock Exchange, Hereford, Texas | July 11, 2008.
VA-148 | Blythe Livestock, LLC, Courtland, Virginia | July 15, 2008.

We are further notifying the public that the following facilities, which met the definition of a stockyard previously, were not posted. We published notices proposing to post these 11 stockyards in the Federal Register on July 25, 2005, (70 FR 42532-42533); April 5, 2006 (71 FR 17071-17072); and March 26, 2008, (73 FR 15969-15970) respectively, however, the facilities were not posted because they no longer meet the definition of a stockyard. The facilities were either abandoned or underwent a change such that they no longer function as stockyards.

Proposed facility No. | Facility name and location
AL-195 | R&S Auctions, Clayton, Alabama.
AR-178 | B-B Livestock Auction & Sales, Inc., Beebe, Arkansas.
FL-138 | Col. Jerry Colvin, dba C.J. Auctions, Lamont, Florida.
IN-167 | Northern Indiana Collection Point, LLC, Shipshewana, Indiana.
KY-180 | Southern Kentucky Livestock Market, Inc., Rockfield, Kentucky.
KY-181 | Wigwam Livestock Market, Inc., Horse Cave, Kentucky.
MO-288 | CRS Sales, LLC, Highlandville, Missouri.
TN-196 | Country Horse Sales, LLC, Westmoreland, Tennessee.
TN-199 | Middle Tennessee Sheep and Goat Sale, LLC, Dickson, Tennessee.
WI-150 | Turenne Livestock Market, Thorp, Wisconsin.
WV-120 | Meadow View Farm, Thornton, West, Virginia.

Finally, we are notifying the public that the following 19 stockyards no longer meet the definition of a stockyard and they are being deposted. We depost stockyards when the facility can no longer be used as a stockyard. The reasons a facility can no longer be used as a stockyard may include the following: (1) The market agency has moved and the posted facility is abandoned; (2) the facility has been torn down or otherwise destroyed, such as by fire; (3) the facility is dilapidated beyond repair; or (4) the facility has been converted and its function has changed.

Facility No. | Stockyard name and location | Date posted
AR-105 | B-B Livestock Sales, Incorporated | February 16, 1959.
AR-131 | Morrilton Livestock Auction, Morrilton, Arkansas | September 30, 1959.
AZ-116 | Arizona Livestock Auction, Inc., Phoenix, Arizona | May 13, 1997.
CO-152 | Garfield Livestock Market, Inc., Silt, Colorado | February 25, 1986.
ID-114 | Custer County Livestock Marketing Association, Inc., MacKay, Idaho | August 22, 1961.
KS-108 | Cedar Vale Sale Barn, Inc., Cedar Vale, Kansas | May 26, 1959.
KS-113 | Coldwater Livestock Sales Co., Inc., Coldwater, Kansas | April 12, 1950.
KS-137 | Great Bend Livestock Sales, Inc., Great Bend, Kansas | April 18, 1950.
KS-145 | Hutchinson Livestock Commission Co., Inc., Hutchinson, Kansas | April 10, 1950.
KS-169 | Onaga Livestock Auction, Inc., Wheaton, Kansas | May 27, 1959.
KS-172 | Franklin County Livestock Commission Co., Ottawa, Kansas | February 12, 1963.
KS-186 | Smith Center Livestock Auction, Smith Center, Kansas | October 23, 1957.
MO-100 | South Central Stockyards, LLC, Alton, Missouri | April 21, 1960.
MO-152 | Licking Livestock Auction, Licking, Missouri | May 15, 1959.
TX-280 | Weatherford Stockyards Company, Mineral Wells, Texas | August 12, 1960.
UT-112 | Spanish Fork Livestock Auction, Co., Spanish Fork, Utah | October 24, 1959.
VA-133 | Smithfield Livestock, Inc., Smithfield, Virginia | March 9, 1959.
VA-144 | Abingdon Stockyard Exchange, Inc., dba Wytheville Stockyard, Wytheville, Virginia | March 4, 1959.
VA-149 | Central Virginia Livestock Market, Inc., Amherst, Virginia | April 13, 1976.

Effective Date

These depostings are effective upon publication in the Federal Register because they relieve a restriction and, therefore, may be made effective in less than 30 days after publication in the Federal Register without prior notice or other public procedure.

Authority: 7 U.S.C. 202.

Alan R. Christian,
Acting Administrator, Grain Inspection, Packers and Stockyards Administration.

[FR Doc. E9-9012 Filed 4-17-09; 8:45 am]

BILLING CODE 3410-KD-P